FEDERAL RETIREMENT THRIFT INVESTMENT BOARD

Sunshine Act; Notice of Meeting

Time and Date: 10 a.m. (Eastern Time), December 17, 2007.

Place: 4th Floor Conference Room, 1250 H Street, NW., Washington, DC 20005.

Status: Open.

Matters To Be Considered: 1. Approval of the minutes of the November 19, 2007 Board member meeting.

2. Thrift Savings Plan activity report by the Executive Director.

a. Monthly Participant Activity Report.

b. Monthly Investment Performance Report.

c. Legislative Report.

Contact Person for More Information: Thomas J. Trabucco, Director, Office of External Affairs, (202) 942-1640.

Dated: December 7, 2007.
Thomas K. Emswiler,
Secretary to the Board, Federal Retirement Thrift Investment Board.

[FR Doc. 07-6024 Filed 12-7-07; 12:11 pm]

BILLING CODE 6760-01-P